DEPARTMENT OF TRANSPORTATION

Federal Aviation Administration

14 CFR Part 39

[Docket No. 2000-CE-73-AD; Amendment 39-13585; AD 2004-05-01 R1]

RIN 2120-AA64

Airworthiness Directives; Bombardier Inc. Model Otter DHC-3 Airplanes

AGENCY: Federal Aviation Administration (FAA), DOT.

ACTION: Final rule; request for comments.

SUMMARY: The FAA is revising Airworthiness Directive (AD) 2004-05-01, which applies to certain Bombardier Inc. (formerly deHavilland Inc.) Model Otter DHC-3 airplanes that have turbine engines installed per one of three supplemental type certificates (STC). AD 2004-05-01 currently prohibits you from operating any affected airplane with these engine and propeller configurations unless a new STC for an elevator servo-tab with a redundant control linkage is installed. The FAA has since evaluated concerns, comments, and technical information related to all three STC configurations. Based on that evaluation, we have determined that further evaluation is necessary for the STCs owned by Texas Turbines Conversions, Inc., and Canada Turbine Conversions, Inc. Therefore, we are removing reference to these STCs from the AD, and the AD will only apply to those Bombardier Inc. airplanes that incorporate STC No. SA3777NM (A.M. Luton installation of Pratt and Whitney PT6A-34/-135 engine). After further evaluation, we may initiate rulemaking action regarding airplanes with the Texas Turbines Conversions, Inc., and Canada Turbine Conversions, Inc., STC configurations.

DATES: This AD becomes effective on May 25, 2004.

On April 20, 2004 (69 FR 9523, March 1, 2004), the Director of the Federal Register previously approved the incorporation by reference of certain publications listed in the regulation.

We must receive any comments on this AD by June 29, 2004.

ADDRESSES: Use one of the following to submit comments on this AD:

• By mail: FAA, Central Region, Office of the Regional Counsel, Attention: Rules Docket No. 2000-CE-73-AD, 901 Locust, Room 506, Kansas City, Missouri 64106.

• By fax: (816) 329-3771.

• By e-mail: 9-ACE-7-Docket@faa.gov. Comments sent electronically must contain “Docket No. 2000-CE-73-AD” in the subject line. If you send comments electronically as attached electronic files, the files must be formatted in Microsoft Word 97 for Windows or ASCII.

You may get the service information identified in this AD A.M. Luton 3025 Eldridge Avenue, Bellingham, Washington, 98225; telephone (360) 671-7817; facsimile (360) 671-7820.

You may view the AD docket at FAA, Central Region, Office of the Regional Counsel, Attention: Rules Docket No. 2000-CE-73-AD, 901 Locust, Room 506, Kansas City, Missouri 64106. Office hours are 8 a.m. to 4 p.m., Monday through Friday, except Federal holidays.

FOR FURTHER INFORMATION CONTACT: For Technical Questions Relating to STC No. SA3777NM or STC No. SA01059SE: Richard Simonson, Aerospace Engineer, FAA, Seattle Aircraft Certification Office (ACO), 1601 Lind Avenue, SW., Renton, Washington 98055; telephone: (425) 917-6507; facsimile: (425) 917-6590.For Administrative Questions Relating to This AD ACTION: Larry Werth, AD Coordinator, FAA, Small Airplane Directorate, 901 Locust, Room 301, Kansas City, Missouri 64106; telephone: (816) 329-4147; facsimile: (816) 329-4149.

SUPPLEMENTARY INFORMATION: Has FAA taken any action to this point? Several reports of situations where pilots of Bombardier Inc. Model Otter DHC-3 airplanes with installed turbine engines experienced buffeting of the elevators and declared an emergency and safely landed their aircraft caused FAA to issue AD 2004-05-01, Amendment 39-13493 (69 FR 9523, March 1, 2004). AD 2004-05-01 currently prohibits operation of any affected airplane that incorporates STC No. SA3777NM, STC No. SA09866SC, or STC No. SA09857SC without incorporation of STC No. SA01059SE. These STCs are as follows:

• STC No. SA3777NM (A.M. Luton installation of Pratt and Whitney PT6A-34/-135 engine);

• STC No. SA09866SC (Texas Turbines Conversions, Inc. installation of Honeywell TPE-331 engine);

• STC No. SA09857SC (Canada Turbine Conversions, Inc. installation of Walter M601E-11 engine); and

• STC No. SA01059SE (American Automotives, Inc. to incorporate a new elevator servo-tab and redundant control linkage).

What has happened since AD 2004-05-01 to initiate this AD action? The FAA has since received and evaluated concerns, comments, and technical information related to all three STC configurations. Based on that evaluation, we have determined that further study is necessary for the STCs owned by Texas Turbines Conversions, Inc., and Canada Turbine Conversions, Inc.

FAA's Determination and Requirements of the AD

What has FAA decided? Therefore, we have determined that reference to the STCs owned by Texas Turbines Conversions, Inc., and Canada Turbine Conversions, Inc. should be removed from the AD.

What does this AD require? This AD revises AD 2004-05-01 by only requiring the actions on those Bombardier Inc. Model Otter DHC-3 airplanes that incorporate STC No. SA3777NM (A.M. Luton installation of Pratt and Whitney PT6A-34/-135 engine) and do not have a new elevator servo-tab and redundant control linkage installed (American Automotives, Inc. STC No. SA01059SE).

Does this mean the FAA cannot take regulatory action in the future? No. Removing the STCs owned by Texas Turbines Conversions, Inc., and Canada Turbine Conversions, Inc., from AD 2004-05-01 does not prevent us from issuing other regulatory action in the future on airplanes that incorporate these STCs.

It also does not commit us to any future action. We will take appropriate regulatory action if (after evaluation of the situation on these two STCs) we determine that there is an unsafe condition.

How does the revision to 14 CFR part 39 affect this AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Comments Invited

Will I have the opportunity to comment before you issue the rule? This AD is a final rule that eliminates certain configurations that may have inadvertently grounded certain airplanes. In order to not inadvertently ground these airplanes, this action was not preceded by notice and an opportunity for public comment. It has no adverse economic impact and imposes no additional burden on any person than would have been necessary to do AD 2004-05-01.

However, we invite you to submit any written relevant data, views, or arguments regarding this AD. Send your comments to an address listed under ADDRESSES. Include “AD Docket No. 2000-CE-73-AD” in the subject line of your comments. If you want us to acknowledge receipt of your mailed comments, send us a self-addressed, stamped postcard with the docket number written on it; we will date-stamp your postcard and mail it back to you. We specifically invite comments on the overall regulatory, economic, environmental, and energy aspects of the rule that might suggest a need to modify it. If a person contacts us through a nonwritten communication, and that contact relates to a substantive part of this AD, we will summarize the contact and place the summary in the docket. We will consider all comments received by the closing date and may amend the AD in light of those comments.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2000-CE-73-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2004-05-01, Amendment 39-13493 (69 FR 9523, March 1, 2004), and by adding a new AD to read as follows:

2004-05-01 R1 Bombardier Inc.: Amendment 39-13585; Docket No. 2000-CE-73-AD; Revises AD 2004-05-01, Amendment 39-13493.

When Does This AD Become Effective?

(a) This AD becomes effective on May 25, 2004.

Are Any Other ADs Affected By This Action?

(b) This AD revises AD 2004-05-01, Amendment 39-13493.

What Airplanes Are Affected by This AD?

(c) This AD affects any Model Otter DHC-3 airplane (all serial numbers) that:

(1) Has a turbine engine installed per Supplemental Type Certificate (STC) No. SA3777NM (A.M. Luton installation of Pratt and Whitney PT6A-34/-135 engine); and

(2) is certificated in any category.

What Is the Unsafe Condition Presented in This AD?

(d) This AD is the result of reports of the control rod to the servo trim tab system detaching from the servo trim tab and causing the servo trim tab to flutter on airplanes with a turbine engine installed. The actions specified in this AD are intended to prevent a single failure of the elevator servo trim tab system, which could cause severe elevator flutter. Such elevator flutter could lead to possible loss of control of the airplane.

What Must I Do To Address This Problem?

(e) To address this problem, you must do the following:

Actions | Compliance | Procedures
(1) Do not operate any airplane that has a turbine engine installed per STC No. SA3777NM and DOES NOT have an elevator servo-tab and redundant control linkage per STC No. SA01059SE | Within 3 calendar months after April 20, 2004 (the effective date of AD 2004-05-01) or within 250 hours time-in-service (TIS) after April 20, 2004 (the effective date of AD 2004-05-01), whichever occurs first | Not Applicable.
(2) You may install at the same time a turbine engine per STC No. SA3777NM and a new elevator servo-tab and redundant control linkage per STC No. SA01059SE | Before further flight as of April 20, 2004 (the effective date of AD 2004-05-01) | Follow American Aeromotives, Inc. DHC-3 Otter Service Letter No. AAI-DHC3-02.01, Revision No. IR, dated April 9, 2002.
(3) You may operate an affected airplane installed with a turbine engine per STC No. SA3777NM if you install a new elevator servo-tab and redundant control linkage per STC No. SA01059SE | Within 3 calendar months after April 20, 2004 (the effective date of AD 2004-05-01) or within 250 hours time-in-service (TIS) after April 20, 2004 (the effective date of AD 2004-05-01), whichever occurs first | Follow American Aeromotives, Inc. DHC-3 Otter Service Letter No. AAI-DHC3-02.01, Revision No. IR, dated April 9, 2002.
(4) Do not install a turbine engine per STC No. SA3777NM, unless you have installed a new elevator servo-tab and redundant control linkage per STC No. SA01059SE | As of April 20, 2004 (the effective date of AD 2004-05-01) | Not Applicable.

May I Request an Alternative Method of Compliance?

(f) You may request a different method of compliance or a different compliance time for this AD by following the procedures in 14 CFR 39.19. Unless FAA authorizes otherwise, send your request to your principal inspector. The principal inspector may add comments and will send your request to the Manager, Seattle Aircraft Certification Office (ACO), FAA.

(1) For information on any already approved alternative methods of compliance (AMOCs), contact Richard Simonson, Aerospace Engineer, FAA, Seattle Aircraft Certification Office (ACO), 1601 Lind Avenue, SW., Renton, Washington 98055; telephone: (425) 917-6507; facsimile: (425) 917-6590.

(2) AMOCs approved through AD 2004-05-01 are also considered approved for this AD.

Does This AD Incorporate Any Material by Reference?

(g) You must do the actions required by this AD following the instructions in American Aeromotives, Inc. DHC-3 Otter Service Letter No. AAI-DHC3-02.01, Revision No. IR, dated April 9, 2002. On April 20, 2004 (69 FR 9523, March 1, 2004), the Director of the Federal Register previously approved the incorporation by reference of this service letter in accordance with 5 U.S.C. 552(a) and 1 CFR part 51. You may get a copy from American Aeromotives, Inc., 3025 Eldridge Avenue, Bellingham, Washington 98225, telephone: (360) 671-7817; facsimile: (360) 671-7820. You may review copies at FAA, Central Region, Office of the Regional Counsel, 901 Locust, Room 506, Kansas City, Missouri 64106; or at the Office of the Federal Register, 800 North Capitol Street, NW., suite 700, Washington, DC.

Issued in Kansas City, Missouri, on April 15, 2004.
James E. Jackson,
Acting Manager, Small Airplane Directorate, Aircraft Certification Service.

[FR Doc. 04-9017 Filed 4-21-04; 8:45 am]

BILLING CODE 4910-13-P